ENVIRONMENTAL PROTECTION AGENCY

40 CFR Part 300

[FRL-8564-1]

National Oil and Hazardous Substances Pollution Contingency Plan; National Priorities List

AGENCY: Environmental Protection Agency.

ACTION: Notice of Deletion for the Tabernacle Drum Dump Superfund Site from the National Priorities List.

SUMMARY: The U.S. Environmental Protection Agency (EPA) Region 2 Office announces the deletion of the Tabernacle Drum Dump Superfund Site from the National Priorities List (NPL). The Tabernacle Drum Dump Site is located in Tabernacle Township, Burlington County, New Jersey. The NPL constitutes Appendix B to the National Oil and Hazardous Substances Pollution Contingency Plan (NCP), 40 CFR part 300, which EPA promulgated pursuant to section 105 of the Comprehensive Environmental Response, Compensation, and Liability Act of 1980 (CERCLA), as amended. EPA and the State of New Jersey, through the Department of Environmental Protection (NJDEP) have determined that all appropriate response actions have been implemented and no further response actions are required. In addition, EPA and the NJDEP have determined that the remedial action taken at the Tabernacle Drum Dump Site is protective of public health, welfare, and the environment.

DATES: Effective Date: May 8, 2008.

ADDRESSES: EPA has established a docket for this action under Docket Identification No. EPA-HQ-SFUND-2005-0011. All documents in the docket are listed on the http://www.regulations.gov Web site. Although listed in the index, some information is not publicly available, i.e., Confidential Business Information or other information whose disclosure is restricted by statute. Certain other material, such as copyrighted material, is not placed on the Internet and will be publicly available only in hard copy form. Publicly available docket materials are available either electronically through http://www.regulations.gov or in hard copy at the site information repositories. Locations, contacts, phone numbers and viewing hours are: EPA's Region 2 Superfund Records Center, 290 Broadway, Room 1828, New York, New York 10007-1866, (212) 637-4308. Hours: 9 a.m. to 5 p.m. Monday through Friday, excluding holidays, by appointment only.

Information on the Site is also available for viewing at the Site's information repository located at: Tabernacle Municipal Building, 163 Carranza Road, Tabernacle, New Jersey 08088.

FOR FURTHER INFORMATION CONTACT: Douglas Tomchuk, Remedial Project Manager, U.S. Environmental Protection Agency, Region 2, 290 Broadway, 19th Floor, New York, New York 10007-1866, (212) 637-3956.

SUPPLEMENTARY INFORMATION: The site to be deleted from the NPL is the Tabernacle Drum Dump Superfund Site, located in Tabernacle Township, Burlington County, New Jersey.

A Notice of Intent to Delete for the Tabernacle Drum Dump Superfund Site was published in the Federal Register on September 24, 2007. The closing date for comments on the Notice of Intent to Delete was October 24, 2007. Two letters were received by EPA on the proposed deletion during the public comment period. One of the letters simply asked for clarification of the ability to continue site restoration after the deletion. The second letter provided support for the deletion of the Tabernacle Drum Dump Site. EPA responded to the letters in January 2008. A responsiveness summary was prepared and placed in both the docket, EPA-HQ-SFUND-2005-0011, on http://www.regulations.gov, and in the local repositories listed above.

EPA's decision to propose the site for deletion was based on the successful implementation of the remedy, which included removal and off-site disposal of contaminated drums, containers and soil from the disposal site, and ground water extraction, treatment and re-injection into the ground, thereby mitigating risks to human health and the environment. Post-remediation ground water monitoring for five years confirmed that the remedy is protective of human health and the environment.

EPA identifies sites that appear to present a significant risk to public health, welfare, or the environment and it maintains the NPL as the list of those sites. As described in § 300.425(e)(3) of the NCP, any site or portion thereof deleted from the NPL remains eligible for remedial actions in the unlikely event that conditions at the site warrant such action in the future. Deletion of a site from the NPL does not affect responsible party liability or impede agency efforts to recover costs associated with response efforts.

List of Subjects in 40 CFR Part 300

Environmental protection, Air pollution controls, Chemicals, Hazardous substances, Hazardous waste, Intergovernmental relations, Penalties, Reporting and recordkeeping requirements, Superfund, Water pollution control, Water supply.

Dated: April 11, 2008.
Alan J. Steinberg,
Regional Administrator, Region 2.

For the reasons set out in the preamble, Part 300, Chapter I of Title 40 of the Code of Federal Regulations, is amended as follows:

PART 300—[AMENDED]

1. The authority citation for part 300 continues to read as follows:

Authority: 42 U.S.C. 9601-9675; 33 U.S.C. 1321(c)(2); E.O. 12777, 56 FR 54757, 3 CFR, 1991 Comp., p. 351; E.O. 12580, 52 FR 2923, 3 CFR, 1987 Comp., p. 193.

2. Table 1 of Appendix B to Part 300 is amended by removing “Tabernacle Drum Dump Superfund Site, Tabernacle Township, New Jersey.”

[FR Doc. E8-10316 Filed 5-7-08; 8:45 am]

BILLING CODE 6560-50-P